DEPARTMENT OF TRANSPORTATION

Federal Aviation Administration

14 CFR Part 39

[Docket No. FAA-2020-0857; Project Identifier MCAI-2020-00707-A]

RIN 2120-AA64

Airworthiness Directives; Pilatus Aircraft Limited Airplanes

AGENCY: Federal Aviation Administration (FAA), DOT.

ACTION: Notice of proposed rulemaking (NPRM).

SUMMARY: The FAA proposes to supersede Airworthiness Directive (AD) 2014-25-04, which applies to all Pilatus Aircraft Limited (Pilatus) Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. AD 2014-25-04 requires incorporating revised airworthiness limitations into the aircraft maintenance manual (AMM). Since the FAA issued AD 2014-25-04, the FAA has determined that new or more restrictive airworthiness limitations are necessary for the stabilizer trim actuator, fuselage wing fittings, and wing-to-fuselage fittings. This proposed AD would require revising the airworthiness limitation section of the existing maintenance manual or instructions for continued airworthiness to incorporate new airworthiness limitations, and performing an eddy current inspection of the fuselage wing fittings and wing to fuselage fittings. The FAA is proposing this AD to address the unsafe condition on these products.

DATES: The FAA must receive comments on this proposed AD by November 16, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Pilatus Aircraft Ltd., Customer Support General Aviation, CH-6371 Stans, Switzerland; telephone: +41 848 24 7 365; email: Techsupport@pilatus-aircraft.com; internet: https://www.pilatus-aircraft.com/en. You may view this service information at the FAA, Airworthiness Products Section, Operational Safety Branch, 901 Locust, Kansas City, Missouri 64106. For information on the availability of this material at the FAA, call (816) 329-4148.

Examining the AD Docket

You may examine the AD docket on the internet at https://www.regulations.gov by searching for and locating Docket No. FAA-2020-0857; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Doug Rudolph, Aerospace Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Comments Invited

The FAA invites you to send any written relevant data, views, or arguments about this proposal. Send your comments to an address listed under the ADDRESSES section. Include “Docket No. FAA-2020-0857; Project Identifier MCAI-2020-00707-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aerospace Engineer, FAA, General Aviation & Rotorcraft Section, International Validation Branch, 901 Locust, Room 301, Kansas City, Missouri 64106; telephone: (816) 329-4059; fax: (816) 329-4090; email: doug.rudolph@faa.gov. Any commentary that the FAA receives which is not specifically designated as CBI will be placed in the public docket for this rulemaking.

Discussion

The FAA issued AD 2014-25-04, Amendment 39-18045 (79 FR 73803, December 12, 2014) (“AD 2014-25-04”), for all Pilatus Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. AD 2014-25-04 requires incorporating revised airworthiness limitations into the AMM for your FAA-approved maintenance program. AD 2014-25-04 resulted from mandatory continuing airworthiness information (MCAI) issued by an aviation authority of another country to identify and correct an unsafe condition on an aviation product. The FAA issued AD 2014-25-04 to address new life limits for the fire extinguisher, which are required to ensure the continued operational safety of the affected airplanes.

Actions Since AD 2014-25-04 Was Issued

Since the FAA issued AD 2014-25-04, the European Union Aviation Safety Agency (EASA), which is the Technical Agent for the Member States of the European Union, superseded its MCAI and issued EASA AD No. 2018-0285, dated December 20, 2018, which was superseded with EASA AD No. 2020-0120, dated May 27, 2020 (referred to after this as the Mandatory Continuing Airworthiness Information, or “the MCAI”). The MCAI corrects an unsafe condition for all Pilatus Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. The MCAI states that Pilatus has revised the airworthiness limitations section for the subject airplanes to introduce new data modules for two existing mandatory inspection tasks, the inspection of fuselage wing fittings and the inspection of wing to fuselage fittings. According to EASA, the new data modules require non-destructive visual and eddy current inspections in place of the previous requirement for a fluorescent dye-penetrant method.

You may examine the MCAI in the AD docket on the internet at https://www.regulations.gov by searching for and locating Docket No. FAA-2020-0857.

The FAA has determined that new and more restrictive airworthiness limitations, new life limits, and new inspection procedures are necessary, including for the stabilizer trim actuator and attachments, fuselage wing fittings, and wing-to-fuselage fittings. The FAA is proposing this AD to address reduced airplane controllability due to possible loss of structural integrity of certain parts.

Related Service Information Under 1 CFR Part 51

Pilatus has issued PC-6 Airworthiness Limitations Document Number 02334, Revision 9, dated March 6, 2020; and Section 04-00-00, Airworthiness Limitations of Chapter 04, Airworthiness Limitations, of the Pilatus PC-6 Aircraft Maintenance Manual Document Number 01975, Revision 29, dated February 28, 2020. This service information contains airworthiness limitations for the stabilizer trim actuator, fuselage wing fittings, and wing-to-fuselage fittings. These documents are distinct since they apply to different airplane models.

Pilatus also issued Section 53-00-01, Chapter 53, Fuselage, and Section 57-00-03, Chapter 57, Wings, of the Pilatus PC-6 Aircraft Maintenance Manual Document Number 01975, Revision 29, dated February 28, 2020; and Appendix K and Appendix L of PC-6 Airworthiness Limitations Document Number 02334, Revision 9, dated March 6, 2020. This service information contains procedures for repetitive eddy current inspections of the fuselage wing fittings and wing-to-fuselage fittings.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD because the FAA evaluated all the relevant information and determined the unsafe condition described previously is likely to exist or develop on other products of the same type design.

Proposed Requirements of This NPRM

This proposed AD would retain none of the requirements of AD 2014-25-04. This proposed AD would require revising the airworthiness limitation section of the existing maintenance manual or instructions for continued airworthiness to incorporate new airworthiness limitations. The revised limitations include an eddy current inspection of the fuselage wing fittings and wing-to-fuselage fittings. This proposed AD would also require performing the eddy current inspection of the fuselage wing fittings and wing-to-fuselage fittings first within 1,100 hours time-in-service or 12 months, and thereafter at the intervals specified in the revised limitations.

This proposed AD would require revisions to the airworthiness limitations section of an operator's maintenance documents to include new inspections. Compliance with the airworthiness limitations section is required by 14 CFR 91.403(c).

Costs of Compliance

The FAA estimates that this proposed AD would affect 30 airplanes of U.S. registry. The FAA also estimates that it would take about 1 work-hour per product to comply with the basic requirements of this AD. The average labor rate is $85 per work-hour.

Based on these figures, the FAA estimates the cost of this AD on U.S. operators would be $2,550, or $85 per product.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-25-04, Amendment 39-18045 (79 FR 73803, December 12, 2014); and

b. Adding the following new AD:

Pilatus Aircraft Limited: Docket No. FAA-2020-0857; Project Identifier MCAI-2020-00707-A.

(a) Comments Due Date

The FAA must receive comments by November 16, 2020.

(b) Affected ADs

This AD replaces AD 2014-25-04, Amendment 39-18045 (79 FR 73803, December 12, 2014) (“AD 2014-25-04”).

(c) Applicability

This AD applies to Pilatus Aircraft Limited Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all serial numbers, certificated in any category.

Note 1 to paragraph (c): These airplanes may also be identified as Fairchild Republic Company airplanes, Fairchild Industries airplanes, Fairchild Heli Porter airplanes, or Fairchild-Hiller Corporation airplanes.

(d) Subject

Air Transport Association (ATA) of America Code 05, Time Limits/Maintenance Checks.

(e) Reason

This AD was prompted by a determination that new and more restrictive airworthiness limitations, new life limits, and new inspection procedures are necessary. The FAA is issuing this AD to address reduced airplane controllability due to possible loss of structural integrity of certain parts.

(f) Airworthiness Limitations Revision

Unless already done, before further flight, comply with the actions specified in paragraphs (f)(1) through (3) of this AD.

(1) For Models PC-6/B2-H2 and PC-6/B2-H4 airplanes, revise the airworthiness limitations section (ALS) of the existing maintenance manual or instructions for continued airworthiness (ICA) for your airplane as follows:

(i) Replace Section 04-00-00 with Section 04-00-00, Airworthiness Limitations, of Chapter 04, Airworthiness Limitations, of the Pilatus PC-6 Aircraft Maintenance Manual Document Number 01975, Revision 29, dated February 28, 2020.

(ii) Add Section 53-00-01, Chapter 53, Fuselage, of the Pilatus PC-6 Aircraft Maintenance Manual Document Number 01975, Revision 29, dated February 28, 2020.

(iii) Add Section 57-00-03, Chapter 57, Wings, of the Pilatus PC-6 Aircraft Maintenance Manual Document Number 01975, Revision 29, dated February 28, 2020.

(2) For all airplanes specified in paragraph (c) of this AD except Models PC-6/B2-H2 and PC-6/B2-H4 airplanes, revise the ALS of the existing maintenance manual or ICA for your airplane as follows:

(i) Replace the ALS with the Airworthiness Limitations Section of Pilatus PC-6 Airworthiness Limitations Document Number 02334, Revision 9, dated March 6, 2020.

(ii) Add Appendix K of Pilatus PC-6 Airworthiness Limitations Document Number 02334, Revision 9, dated March 6, 2020.

(iii) Add Appendix L of Pilatus PC-6 Airworthiness Limitations Document Number 02334, Revision 9, dated March 6, 2020.

(3) For all airplanes specified in paragraph (c) of this AD, after revising the ALS as required by paragraphs (f)(1) and (2) of this AD, remove from service each part that has reached or exceeded its new life limit.

(g) One-Time Eddy Current Inspection

Unless already done, within 1,100 hours time-in-service after the effective date of this AD or within 12 months after the effective date of this AD, whichever occurs first, perform an eddy current inspection of each fuselage wing fitting and each wing to fuselage fitting using the procedures specified in paragraphs (f)(1)(ii) and (iii) of this AD, or paragraphs (f)(2)(ii) and (iii) of this AD, as applicable to your airplane. Thereafter, repeat the eddy current inspection of each fuselage wing fitting and each wing to fuselage fitting at the intervals specified in the ALS identified in paragraph (f)(1)(i) or (f)(2)(i), as applicable to your airplane.

(h) No Alternative Actions or Intervals

After the ALS has been revised as required by paragraph (f) of this AD, no alternative inspection intervals or procedures may be approved, except as provided in paragraph (i) of this AD.

(i) Other FAA AD Provisions

Alternative Methods of Compliance (AMOCs): The Manager, International Validation Branch, FAA, has the authority to approve AMOCs for this AD, if requested using the procedures found in 14 CFR 39.19. Send information to Doug Rudolph, Aerospace Engineer, FAA, General Aviation & Rotorcraft Section, International Validation Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(j) Related Information

(1) Refer to Mandatory Continuing Airworthiness Information (MCAI) European Union Aviation Safety Agency (EASA) AD No. 2018-0285, dated December 20, 2018, and EASA AD No. 2020-0120, dated May 27, 2020, for related information. This MCAI may be found in the AD docket on the internet at https://www.regulations.gov by searching for and locating Docket No. FAA-2020-0857.

(2) For more information about this AD, contact Doug Rudolph, Aerospace Engineer, FAA, General Aviation & Rotorcraft Section, International Validation Branch, 901 Locust, Room 301, Kansas City, Missouri 64106; telephone: (816) 329-4059; fax: (816) 329-4090; email: doug.rudolph@faa.gov.

(3) For service information identified in this AD, contact Pilatus Aircraft Ltd., Customer Support General Aviation, CH-6371 Stans, Switzerland; telephone: +41 848 24 7 365; email: Techsupport@pilatus-aircraft.com; internet: https://www.pilatus-aircraft.com/en. You may view this service information at the FAA, Airworthiness Products Section, Operational Safety Branch, 901 Locust, Kansas City, Missouri 64106. For information on the availability of this material at the FAA, call (816) 329-4148.

Issued on September 25, 2020.
Lance T. Gant,
Director, Compliance & Airworthiness Division, Aircraft Certification Service.

[FR Doc. 2020-21794 Filed 10-1-20; 8:45 am]

BILLING CODE 4910-13-P